DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On September 26, 2019, OFAC determined that the property and interests in property subject to U.S. jurisdiction of the following persons and the following vessels subject to U.S. jurisdiction are blocked under the relevant sanctions authorities listed below.

Individuals

BILLING CODE 4810-AL-P

Entity

BILLING CODE 4810-AL-C

Vessels

1. OT-2077 Russia flag; Vessel Registration Identification IMO 9025778 (vessel) [UKRAINE-EO13685] (Linked To: TRANSPETROCHART CO LTD).

Identified pursuant to E.O. 13685 as property in which TRANSPETROCHART CO LTD, a person whose property and interests in property are blocked pursuant to E.O. 13685, has an interest.

2. PASSAT Russia flag; Vessel Registration Identification IMO 8523242 (vessel) [UKRAINE-EO13685] (Linked To: TRANSPETROCHART CO LTD).

Identified pursuant to E.O. 13685 as property in which TRANSPETROCHART CO LTD, a person whose property and interests in property are blocked pursuant to E.O. 13685, has an interest.

3. SIG Russia flag; Vessel Registration Identification IMO 9735335 (vessel) [UKRAINE-EO13685] (Linked To: TRANSPETROCHART CO LTD).

Identified pursuant to E.O. 13685 as property in which TRANSPETROCHART CO LTD, a person whose property and interests in property are blocked pursuant to E.O. 13685, has an interest.

4. SUDAK Russia flag; Vessel Registration Identification IMO 8943155 (vessel) [UKRAINE-EO13685] (Linked To: TRANSPETROCHART CO LTD).

Identified pursuant to E.O. 13685 as property in which TRANSPETROCHART CO LTD, a person whose property and interests in property are blocked pursuant to E.O. 13685, has an interest.

5. YAZ Russia flag; Vessel Registration Identification IMO 9735323 (vessel) [UKRAINE-EO13685] (Linked To: TRANSPETROCHART CO LTD).

Identified pursuant to E.O. 13685 as property in which TRANSPETROCHART CO LTD, a person whose property and interests in property are blocked pursuant to E.O. 13685, has an interest.

Dated: September 27, 2019.
Andrea M. Gacki,
Director, Office of Foreign Assets Control.

[FR Doc. 2019-21502 Filed 10-10-19; 8:45 am]

BILLING CODE 4810-AL-P